DEPARTMENT OF AGRICULTURE

Submission for OMB Review; Comment Request

April 9, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Worksheet for Supplemental Nutrition Assistance Program Quality Control Reviews.

OMB Control Number: 0584-0074.

Summary of Collection: State agencies are required to perform Quality Control Reviews for the Supplemental Nutrition Assistance Program (SNAP). In order to determine the accuracy of SNAP benefits authorized by State agencies, a statistical sample of SNAP cases is selected for review from each State agency. Relevant information from the case record, investigative work and documentation about individual cases is recorded on the FNS-380, Worksheet for SNAP Quality Control Reviews. This information, along with supporting documentation, is the basis for the determination of the accuracy of the case. Section 16 of the Food and Nutrition Act of 2008 provides the legislative basis for the operation of the QC system.

Need and Use of the Information: The Food and Nutrition Service (FNS) will use the information from the FNS-380 to record identifying information about the household and to also document and evaluate each step of the field investigation process to determine eligibility and payment amounts under FNS' approved State agency practices.

Description of Respondents: State, Local, or Tribal Government; individuals or households.

Number of Respondents: 52,012.

Frequency of Responses: Recordkeeping; Reporting: On occasion; Annually.

Total Burden Hours: 489,641.

Ruth Brown,
Departmental Information Collection Clearance Officer.

[FR Doc. 2013-08710 Filed 4-12-13; 8:45 am]

BILLING CODE 3410-30-P